DEPARTMENT OF HOMELAND SECURITY

Coast Guard

33 CFR Part 117

[Docket No. USCG-2015-0079]

Drawbridge Operation Regulation; Oakland Inner Harbor, Alameda, CA

AGENCY: Coast Guard, DHS.

ACTION: Notice of deviation from drawbridge regulation.

SUMMARY: The Coast Guard has issued a temporary deviation from the operating schedule that governs the Alameda County highway drawbridge at High Street across the Oakland Inner Harbor, mile 6.0, at Alameda, CA. The deviation is necessary to allow the bridge owner to make necessary repairs and rehabilitation of the bridge. This deviation allows single leaf operation of the double leaf, bascule-style drawbridge during the deviation period.

DATES: This deviation is effective without actual notice from March 6, 2015 through 6:30 p.m. on April 27, 2015. For the purposes of enforcement, actual notice will be used from 9:30 a.m. on March 2, 2015, until March 6, 2015.

ADDRESSES: The docket for this deviation, [USCG-2015-0079], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David H. Sulouff, Chief, Bridge Section, Eleventh Coast Guard District; telephone 510-437-3516, email David.H.Sulouff@uscg.mil. If you have questions on viewing the docket, call Cheryl Collins, Program Manager, Docket Operations, telephone 202-366-9826.

SUPPLEMENTARY INFORMATION: Alameda County has requested a temporary change to the operation of the Alameda County highway bridge at High Street, mile 6.0, over Oakland Inner Harbor, at Alameda, CA. The drawbridge navigation span provides horizontal clearance of 244 feet between pier fenders. During single leaf operation, horizontal clearance is reduced to approximately 100 feet. The drawbridge provides a vertical clearance of 16 feet above Mean High Water in the closed-to-navigation position and unlimited vertical clearance in the open-to-navigation position. As required by 33 CFR 117.181, the draw opens on signal; except that, from 8 a.m. to 9 a.m. and 4:30 p.m. to 6:30 p.m. Monday through Friday except Federal holidays, the draw need not be opened for the passage of vessels. However, the draw shall open during the above closed periods for vessels which must for reasons of safety, move on a tide or slack water, if at least two hours notice is given. Navigation on the waterway is commercial, recreational, emergency and law enforcement vessels.

During the deviation period, the drawspan will be operated with only one leaf between 9:30 a.m. and 6:30 p.m., Monday through Friday, while the opposite leaf will be secured in the closed-to-navigation position for rehabilitation. A two hour advance notice will be required from vessel operators for a double leaf opening. At night and on weekends, the drawbridge will resume the normal double leaf operation, when work is not being performed on the bridge. This temporary deviation has been coordinated with the waterway users. No objections to the proposed temporary deviation were raised.

Vessels able to pass through the bridge in the closed position may do so at any time. The bridge will be able to open for emergencies and there is no immediate alternate route for larger vessels to pass. The Coast Guard will also inform the waterway users via our Local and Broadcast Notices to Mariners of the change in operating schedule for the bridge so vessel operators can arrange their transits to minimize any impact caused by the temporary deviation.

In accordance with 33 CFR 117.35(e), the drawbridge must return to its regular operating schedule immediately at the end of the effective period of this temporary deviation. This deviation from the operating regulations is authorized under 33 CFR 117.35.

Dated: February 17, 2015.
D.H. Sulouff,
District Bridge Chief, Eleventh Coast Guard District.

[FR Doc. 2015-05231 Filed 3-5-15; 8:45 am]

BILLING CODE 9110-04-P